ENVIRONMENTAL PROTECTION AGENCY

[ER-FRL-9008-9]

Environmental Impacts Statements; Notice of Availability

Responsible Agency: Office of Federal Activities, General Information (202) 564-7146 or http://www.epa.gov/compliance/nepa/.

Weekly receipt of Environmental Impact Statements

Filed 04/22/2013 Through 04/26/2013,

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: Due to EPA's agency-wide furlough day on Friday, May 24th and the Federal holiday on Monday, May 27th, all EISs must be filed with EPA by Thursday, May 23rd by 5:00 pm eastern time for publication under a Notice of Availability in the Federal Register for Friday, May 31st.

EIS No. 20130109, Draft EIS, USFS, MT, Stonewall Vegetation Project, Comment Period Ends: 06/17/2013, Contact: Amber Kamps 406-362-7000.

EIS No. 20130110, Final EIS, USA, CA, Presidio of Monterey Real Property Master Plan, Review Period Ends: 06/02/2013, Contact: Lawrence Hirai 210-466-1594.

EIS No. 20130111, Final EIS, NPS, OH, Cuyahoga Valley National Park Trail Management Plan, Review Period Ends: 06/02/2013, Contact: Stan Austin 330-657-2752.

EIS No. 20130112, Draft EIS, FHWA, MO, South County Connector, Comment Period Ends: 07/19/2013, Contact: Raegan Ball 573-638-2752.

EIS No. 20130113, Final EIS, FHWA, OR, OR 62: I-5 to Dutton Road, Contact: Michelle Eraut 503-316-2559.

Under MAP-21 section 1319, FHWA has issued a single FEIS and ROD. Therefore, the 30-day wait/review period under NEPA does not apply to this action.

EIS No. 20130114, Draft EIS, FEMA, CA, East Bay Hills Hazardous Fire Risk Reduction, Comment Period Ends: 06/17/2013, Contact: Alessandro Amaglio 510-627-7027.

EIS No. 20130115, Draft EIS, DOE, IL, FutureGen 2.0 Project, Comment Period Ends: 06/17/2013, Contact: Cliff Whyte 304-285-2098.

EIS No. 20130116, Draft EIS, NPS, TX, Big Thicket National Preserve General Management Plan, Comment Period Ends: 07/01/2013, Contact: Erin Flanagan 303-969-2327.

EIS No. 20130117, Final EIS, USACE, FL, Central Florida Phosphate District Phosphate Mining, Review Period Ends: 06/03/2013, Contact: John Fellows 813-769-7070.

EIS No. 20130118, Draft EIS, BLM, ID, Jump Creek, Succor Creek, and Cow CreekWatersheds Grazing Permit Renewal, Comment Period Ends: 06/17/2013, Contact: Jake Vialpando 208-373-3814.

EIS No. 20130119, Draft EIS, USFS, OR, Mt. Hood Meadows Parking Improvements (Twilight Parking Lot and Sunrise Maintenance Shop), Comment Period Ends: 06/17/2013, Contact: Jennie O'Connor Card 541-352-1255.

EIS No. 20130120, Final EIS, USFS, AZ, Rim Lakes Forest Restoration Project, Amendment to the Apache-Sitgreaves National Forests Land and Resource Management Plan, Review Period Ends: 06/03/2013, Contact: Christopher James 928-535-7301.

EIS No. 20130121, Second Draft Supplement, NRC, NH, NUREG-1437, License Renewal of Nuclear Plants, Supplement 46, Regarding Seabrook Station, Comment Period Ends: 06/30/2013, Contact: Lois M. James 301-415-3306.

EIS No. 20130122, Final EIS, MARAD, AL, ADOPTION—Garrows Bend Intermodal Rail, portion of the Choctaw Point Terminal Project, Review Period Ends: 06/03/2013, Contact: Kris Gilson 202-492-0479.

The U.S. Department of Transportation's Maritime Administration (MARAD) has adopted the U.S. Army Corps of Engineers FEIS #20040381, filed 08/10/2004.The MARAD was not a cooperating agency. Therefore, recirculation is necessary under Section 1506.3(b) of the CEQ Regulations.

Amended Notices

EIS No. 20130045, Draft EIS, USACE, 00, Update of the Water Control Manual for the Alabama-Coosa-Tallapoosa River Basin in Georgia and Alabama, Comment Period Ends: 05/31/2013, Contact: Lewis Sumner 251-694-3857. Revision to FR Notice Published 03/01/2013; Extending Comment Period from 05/01/2013 to 5/31/2013.

EIS No. 20130072, Final EIS, FHWA, AR, River Valley Intermodal Facilities, Review Period Ends: 05/13/2013, Contact: Randal Looney 501-324-6430.

The U.S. Department of the Army's Corps of Engineers has adopted the U.S. Department of Transportation's Federal Highway Administration's FEIS #20130072, filed 03/21/2013. The U.S. Army Corps of Engineers was a cooperating agency to the project. Recirculation of the document is not necessary under 1506.3(c) of the CEQ Regulations.

Dated: April 30, 2013.
Cliff Rader,
Director, NEPA Compliance Division, Office of Federal Activities.

[FR Doc. 2013-10537 Filed 5-2-13; 8:45 am]

BILLING CODE 6560-50-P